DEPARTMENT OF JUSTICE

Notice of Lodging of Proposed Consent Decree Under the Clean Water Act

On November 13, 2013, the Department of Justice lodged a proposed Consent Decree with the United States District Court for the Western District of Louisiana in the lawsuit entitled The United States and The State of Louisiana v. The City of Shreveport, Louisiana, Case No: 5:13-cv-03065. The Consent Decree resolves the claims of Plaintiffs in the complaint against The City of Shreveport, for Shreveport's sanitary sewer overflows in violation of Sections 301 and 309 of the Clean Water Act, 42 U.S.C. 1311 and 1319, and the terms and conditions of Louisiana Pollutant Discharge Elimination permits issued to the City under Section 402 of the Clean Water Act, 42 U.S.C. 1342. Under the proposed Consent Decree, Shreveport has agreed to pay a civil penalty of $650,000 and perform remediation of its wastewater collection treatment system, including the Lucas and North Regional treatment plants, estimated to cost approximately $141 million.

The publication of this notice opens a period for public comment on the Consent Decree. Comments should be addressed to the Assistant Attorney General, Environment and Natural Resources Division, and should refer to The United States and the State of Louisiana v. The City of Shreveport, Louisiana, DJ#: 90-5-1-1-2767/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $36.50 (25 cents per page reproduction cost) payable to the United States Treasury.

Thomas P. Carroll,
Assistant Chief, Environmental Enforcement Section, Environment and Natural Resources Division.

[FR Doc. 2013-27674 Filed 11-18-13; 8:45 am]

BILLING CODE 4410-15-P